DEPARTMENT OF AGRICULTURE

Submission for OMB Review; Comment Request

September 5, 2012 .

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Tomatoes from Certain Central American Countries.

OMB Control Number: 0579-0286.

Summary of Collection: Under the Plant Protection Act (7 U.S.C. 7701 et seq.), the Secretary of Agriculture is authorized to carry out operations or measures to detect, eradicate, suppress, control, prevent, or retard the spread of plant pests new to the United States or not known to be widely distributed throughout the United States. The Animal and Plant Health Inspection Service (APHIS) allows certain types of tomatoes grown in approved registered production sites in Costa Rica, El Salvador, Guatemala, Honduras, Nicaragua and Panama to be imported into the United States with treatment. The conditions are designed to prevent the introduction of quarantine pests into the United States, including trapping, pre-harvest inspection, and shipping procedures.

Need and Use of the Information: APHIS requires that each shipment of tomatoes must be accompanied by a phytosanitary certificate issued by the National Plant Protection Organization and bearing the declaration, “These tomatoes were grown in an area recognized to be free of Medfly and the shipment has been inspected and found free of the pest listed in the requirements.” In addition to the phytosanitary certificate, production site and packinghouse records, monitoring/auditing trapping program, trapping records, and labeling of boxes information must be collected as well. Failure to collect this information would cripple APHIS' ability to ensure that peppers and tomatoes from Central America are not carrying fruit flies.

Description of Respondents: Business or other for-profit; Not-for-profit institutions.

Number of Respondents: 40.

Frequency of Responses: Recordkeeping; Reporting: On occasion.

Total Burden Hours: 344.

Title: Citrus from Peru.

OMB Control Number: 0579-0289.

Summary of Collection: The Plant Protection Act (7 U.S.C. 7701 et seq.) the Secretary of Agriculture is authorized to carry out operations or measures to detect, eradicate, suppress, control, prevent, or retard the spread of plant pests new to the United States or not known to be widely distributed throughout the United States. The Animal and Plant Health Inspection Service (APHIS) fruits and vegetables regulations allow the importation, under certain conditions of fresh commercial citrus fruit (grapefruit, limes, mandarin oranges, or tangerines, sweet oranges, and tangelos) from approved areas of Peru into the United States.

Need and Use of the Information: APHIS will collect information that includes inspections by national plant protection organization officials from Peru, grower registration and agreement, fruit fly trapping, monitoring, recordkeeping, and phytosanitary certificate. Without the information APHIS could not verify that fruit was treated, verify that citrus canker, fruit flies, and other pests were destroyed by treatment, or that the treatment was adequate to prevent the risk of plant pests from entering the United States.

Description of Respondents: Business or other for-profit; Federal Government.

Number of Respondents: 444.

Frequency of Responses: Recordkeeping; Reporting: On occasion.

Total Burden Hours: 31,857.

Ruth Brown,
Departmental Information Collection Clearance Officer.

[FR Doc. 2012-22257 Filed 9-10-12; 8:45 am]

BILLING CODE 3410-34-P